DEPARTMENT OF ENERGY

Federal Energy Regulatory Commission

Combined Notice of Filings #1

Take notice that the Commission received the following electric rate filings:

Docket Numbers: ER13-78-009.

Applicants: UNS Electric, Inc.

Description: Compliance filing: Attachment K Compliance Filing to be effective 10/1/2015.

Filed Date: 4/6/16.

Accession Number: 20160406-5168.

Comments Due: 5 p.m. ET 4/27/16.

Docket Numbers: ER15-936-002; ER15-960-002; ER10-1514-002; ER13-343-005; ER13-342-010.

Applicants: Benson Power, LLC, CPV Biomass Holdings, LLC, CPV Keenan II Renewable Energy Company, LLC, CPV Maryland, LLC, CPV Shore, LLC.

Description: Notice of Change in Status of Benson Power, LLC, et al.

Filed Date: 4/6/16.

Accession Number: 20160406-5196.

Comments Due: 5 p.m. ET 4/27/16.

Docket Numbers: ER16-277-002.

Applicants: Talen Energy Marketing, LLC.

Description: Compliance filing: Compliance Filing to be effective N/A.

Filed Date: 4/6/16.

Accession Number: 20160406-5172.

Comments Due: 5 p.m. ET 4/27/16.

Docket Numbers: ER16-748-001.

Applicants: Sentinel Energy Center, LLC.

Description: Notice of Change in Status of Sentinel Energy Center, LLC.

Filed Date: 4/6/16.

Accession Number: 20160406-5175.

Comments Due: 5 p.m. ET 4/27/16.

Docket Numbers: ER16-1352-000.

Applicants: Midcontinent Independent System Operator, Inc.

Description: § 205(d) Rate Filing: 2016-04-06_SA 2912 WPSC-WPSC FCA (Gaylord) (J392) to be effective 4/7/2016.

Filed Date: 4/6/16.

Accession Number: 20160406-5139.

Comments Due: 5 p.m. ET 4/27/16.

Docket Numbers: ER16-1353-000.

Applicants: Midcontinent Independent System Operator, Inc.

Description: § 205(d) Rate Filing: 2016-04-06_SA 2896 METC-WPSC 1st Rev. GIA (J392) to be effective 4/7/2016.

Filed Date: 4/6/16.

Accession Number: 20160406-5151.

Comments Due: 5 p.m. ET 4/27/16.

Docket Numbers: ER16-1354-000.

Applicants: Live Oak Solar, LLC.

Description: Baseline eTariff Filing: Live Oak Solar, LLC Application for Market-Based Rates to be effective 9/1/2016.

Filed Date: 4/6/16.

Accession Number: 20160406-5169.

Comments Due: 5 p.m. ET 4/27/16.

Docket Numbers: ER16-1355-000.

Applicants: Westar Energy, Inc.

Description: Compliance filing: TFR Revisions to Attachment H-1, OATT to be effective 8/20/2014.

Filed Date: 4/6/16.

Accession Number: 20160406-5171.

Comments Due: 5 p.m. ET 4/27/16.

Docket Numbers: ER16-1356-000.

Applicants: ITC Midwest LLC.

Description: § 205(d) Rate Filing: Filing to Comply with Docket No. ER12-1645-000 to be effective 6/6/2016.

Filed Date: 4/6/16.

Accession Number: 20160406-5173.

Comments Due: 5 p.m. ET 4/27/16.

Docket Numbers: ER16-1357-000.

Applicants: Southern California Edison Company.

Description: § 205(d) Rate Filing: DSA PVN Management, LLC Milliken Landfill Solar I and II Project to be effective 6/7/2016.

Filed Date: 4/7/16.

Accession Number: 20160407-5000.

Comments Due: 5 p.m. ET 4/28/16.

Docket Numbers: ER16-1358-000.

Applicants: Southern Company Services, Inc.

Description: Notice of Termination of Restated Interchange Contract between Southern Company Services, Inc. and Cajun Electric Power Cooperative, Inc.

Filed Date: 4/6/16.

Accession Number: 20160406-5180.

Comments Due: 5 p.m. ET 4/27/16.

Take notice that the Commission received the following electric securities filings:

Docket Numbers: ES16-26-000.

Applicants: Consumers Energy Company.

Description: Application of Consumers Energy Company for Authority to Issue Securities.

Filed Date: 4/6/16.

Accession Number: 20160406-5179.

Comments Due: 5 p.m. ET 4/27/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 7, 2016.
Nathaniel J. Davis, Sr.,
Deputy Secretary.

[FR Doc. 2016-08599 Filed 4-13-16; 8:45 am]

BILLING CODE 6717-01-P